DEPARTMENT OF COMMERCE

National Oceanic and Atmospheric Administration

[I.D. 042904A]

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene public meetings.

DATES: The meetings will be held on May 17-20, 2004.

ADDRESSES: These meetings will be held at the Westin Beach Resort, 97000 South Overseas Highway, Key Largo, FL; telephone: (305) 852-5553.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

May 19, 2004

8:30 a.m.—Convene.

8:45 a.m.-11 a.m.—Receive public testimony on the Draft Reef Fish Amendment 22 (Red Snapper Rebuilding Plan) and Applications for Exempted Fishing Permits (if any).

11 a.m.-11:30 a.m.—Receive a report of the National Mercury Working Group.

1 p.m.-1:30 p.m.—Receive the Habitat Protection Committee report.

1:30 p.m.-4 p.m.—Receive the Reef Fish Management Committee report.

4 p.m.-4:30 p.m.—Receive the Shrimp Management Committee report.

4:30 p.m.-4:45 p.m.—(Closed Session) Receive the report of the Advisory Panel (AP) Selection Committee.

4:45 p.m.-5:15 p.m.—(Closed Session)—Receive the report of the Personnel Committee.

5:15 p.m.-5:30 p.m.—(Closed Session)—Receive the report of the Council's Southeast Data and Review (SEDAR) Committee.

May 20, 2004

8:30 a.m.-9 a.m.—Receive the AP Selection Committee Report.

9 a.m.-9:15 a.m.—Receive the Personnel Committee report.

9:15 a.m.-9:30 a.m.—Receive the Council SEDAR Committee report.

9:30 a.m.-9:45 a.m.—Receive the Joint Reef Fish/Mackerel Management Committee report.

9:45 a.m.-10 a.m.—Receive a report on the Gulf States Marine Fishery Commission's Red Drum Meeting.

10 a.m.-10:15 a.m.—Receive a report on the International Commission for the Conservation of Atlantic Tunas (ICCAT) Advisory Committee meeting.

10:15 a.m.-10:30 a.m.—Receive the report on Council Chairs meeting.

10:30 a.m.-10:45 a.m.—Receive Enforcement Reports.

10:45 a.m.-11 a.m.—Receive the NMFS Regional Administrator's Report.

11 a.m.-11:30 a.m.—Receive Director's Reports.

11:30 a.m.-11:45 a.m.—Other Business

Committees

May 17, 2004

8:30 a.m.-9 a.m.—Convene the AP Selection Committee to appoint members of an Ad Hoc Advisory Panel for Offshore Marine Aquaculture.

9 a.m.-10:30 a.m.—Convene the Habitat Protection Committee to receive a presentation by NMFS on impacts of liquefied natural gas facilities; receive a report on the Kemp's Ridley turtle meeting; and discuss the Southeast Aquatic Resources Partnership (SARP).

10:30 a.m.-12 noon—Convene the Joint Reef Fish/Mackerel Management Committee to review hearing comments on the Joint Reef Fish/Mackerel Limited Access Scoping Document. The committees will also review and revise a Draft Scoping Document for Extension of the Charter Vessel Permit Moratorium.

1:30 p.m.-5:30 p.m.—Convene with the Reef Fish Management Committee to discuss the NMFS Southeast Fisheries Science Center's (SEFSC) bycatch reduction device (BRD) analyses. The committee will also review and take final action on the Final Reef Fish Amendment 22 (red snapper rebuilding program) and review the Public Hearing Draft of Vermilion Snapper Amendment 23 that contains alternatives for arresting overfishing of that stock by commercial and recreational fishermen. An options paper for Reef Fish Amendment 18 pertaining to the grouper fishery will be discussed. The committee will also consider using the current red snapper individual fishing quota (IFQ) profile as a scoping document. The Committee will develop recommendations for consideration by full Council on Wednesday afternoon.

May 18, 2004

8:30 a.m.-10:30 a.m.—Continue with the Reef Fish Management Committee.

10:30 a.m.-12 noon—Convene the Shrimp Management Committee to review Draft Shrimp Amendment 13.

1:30 p.m.-2:15 p.m.—(Closed Session)—Receive a briefing on Litigation.

2:15 p.m.-4 p.m.—Convene the Personnel Committee.

Although other non-emergency issues not on the agendas may come before the Council and Committees for discussion, in accordance with the Magnuson-Stevens Fishery Conservation and Management Act, those issues may not be the subject of formal action during these meetings. Actions of the Council and Committees will be restricted to those issues specifically identified in the agendas and any issues arising after publication of this notice that require emergency action under section 305(c) of the Magnuson-Stevens Act, provided the public has been notified of the Council's intent to take action to address the emergency. The established times for addressing items on the agenda may be adjusted as necessary to accommodate the untimely completion of discussion relevant to other agenda items. In order to further allow for such adjustments and completion of all items on the agenda, the meeting may be extended from or completed prior to the date established in this notice.

Special Accommodations

These meetings are physically accessible to people with disabilities. Requests for sign language interpretation or other auxiliary aids should be directed to Trish Kennedy at the Council (see ADDRESSES) by May 10, 2004.

Dated: April 30, 2004.
Alan D. Risenhoover,
Acting Director, Office of Sustainable Fisheries, National Marine Fisheries Service.

[FR Doc. E4-1031 Filed 5-5-04; 8:45 am]

BILLING CODE 3510-22-S